LEGAL SERVICES CORPORATION

Sunshine Act Meeting

DATE AND TIME: The Legal Services Corporation's Promotion & Provision for the Delivery of Legal Services Committee will meet March 9, 2012. The meeting will commence at 12 p.m., Eastern Standard Time, and will continue until the conclusion of the Committee's agenda.

LOCATION: F. William McCalpin Conference Center, Legal Services Corporation Headquarters Building, 3333 K Street NW., Washington, DC 20007.

PUBLIC OBSERVATION: Members of the public who are unable to attend but wish to listen to the public proceeding may do so by following the telephone call-in directions provided below but are asked to keep their telephones muted to eliminate background noises. From time to time the presiding Chair may solicit comments from the public.

CALL-IN DIRECTIONS FOR OPEN SESSIONS: • Call toll-free number: 1-866-451-4981;

• When prompted, enter the following numeric pass code: 5907707348

• When connected to the call, please immediately “MUTE” your telephone.

STATUS OF MEETING: Open.

MATTERS TO BE CONSIDERED: 1. Approval of Agenda

2. Approval of minutes of the Committee's meeting of January 20, 2012

3. Discussion of Committee members' self-evaluations for 2011 and the Committee's goals for 2012

4. Discussion on use of video taping of Committee presentations for preservation and dissemination

5. Facilitating grantee staff to participate in “peer” review visits of other grantees and/or OPP program quality visits

6. Public comment

7. Consider and act on other business

8. Consider and act on adjournment of meeting

CONTACT PERSON FOR INFORMATION: Katherine Ward, Executive Assistant to the Vice President & General Counsel, at (202) 295-1500. Questions may be sent by electronic mail to FR_NOTICE_QUESTIONS@lsc.gov.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: February 21, 2012.
Mattie Cohan,
Senior Assistant General Counsel.

[FR Doc. 2012-4441 Filed 2-22-12; 4:15 pm]

BILLING CODE 7050-01-P